DEPARTMENT OF THE INTERIOR

Fish and Wildlife Service

Big Game Guiding on National Wildlife Refuges in Alaska

AGENCY: Fish and Wildlife Service, Interior.

ACTION: Notice of solicitation.

SUMMARY: The U.S. Fish and Wildlife Service is soliciting proposals to conduct commercial big game guide services in six guide use areas on five national wildlife refuges in Alaska.

DATES: Proposals must be postmarked by, or hand delivered to the Alaska Regional Office at the address indicated below by, November 14, 2005.

FOR FURTHER INFORMATION CONTACT: Tony Booth or Debbie Steen, U.S. Fish and Wildlife Service, National Wildlife Refuge System—Alaska, Division of Visitor Services and Communications, 1011 East Tudor Road, M.S. 235, Anchorage, Alaska 99503; Telephone: (907) 786-3384 (Tony) or (907) 786-3665 (Debbie).

SUPPLEMENTARY INFORMATION: The U.S. Fish and Wildlife Service is requesting proposals to conduct commercial big game guide services within guide use areas on four national wildlife refuges in Alaska that have become vacant or may become vacant soon. We will authorize big game guiding services on these areas for the period January 1, 2006, through December 31, 2010. We will award permits to conduct guiding services in these areas through a competitive selection process that is described in the prospectus. The offerings will include the following guide use areas:

Alaska Maritime Refuge—AKM-03

Alaska Peninsula/Becharof Refuge—BCH-06

Arctic Refuge—ARC-01, ARC-08

Kanuti Refuge—KAN-01

Koyukuk Refuge—KOY-02

Interested qualified guides who apply for the guide areas on the Arctic Refuge should be aware that the availability of both of those areas is uncertain at this time because the existing permittee may seek reconsideration or appeal a decision to not renew the permits. Interested qualified guides who apply for the guide area on the Koyukuk Refuge should be aware that the Service is in the process of revoking the existing KOY-02 permit. Since the Service does not plan to issue a separate notice for the Arctic and Koyukuk offerings, interested parties should submit proposals in response to this notice.

We will send a letter announcing these offerings to all State of Alaska-registered big game guides. You must postmark or hand deliver proposals to the Service at the address indicated above by 4 p.m., November 14, 2005.

Copies of the solicitation are available to any interested party by calling or writing the above telephone number or address.

Rowan W. Gould,
Regional Director, Anchorage, Alaska.

[FR Doc. 05-17760 Filed 9-7-05; 8:45 am]

BILLING CODE 4310-55-P